DEPARTMENT OF ENERGY

Federal Energy Regulatory Commission

[Docket No. IS06-191-000]

Colonial Pipeline Company; Notice of Technical Conference

March 31, 2006.

Take notice that a technical conference will be convened on Wednesday, May 3, 2006, at 10 a.m. (EDT), in a room to be designated at the offices of the Federal Energy Regulatory Commission (FERC), 888 First Street, NE., Washington, DC 20426. If necessary, the technical conference will convene again on Thursday, May 4, 2006, at the same time and place.

The technical conference will deal with issues related to Colonial Pipeline Company's (Colonial) tariff supplements proposing changes relating to the shipment of reformulated gasoline products containing methyl tertiary butyl ether on Colonial's pipeline system, as discussed in the March 16, 2006 order in this docket (Colonial Pipeline Co., 114 FERC ¶ 61,276 (2006)).

FERC conferences are accessible under section 508 of the Rehabilitation Act of 1973. For accessibility accommodations, please send an e-mail to accessibility@ferc.gov or call toll free (866) 208-3372 (voice) or (202) 502-8659 (TTY), or send a fax to (202) 208-2106 with the required accommodations.

All interested persons and Staff are permitted to attend. However, participation in the conference is limited to Staff and Parties, as that term is defined in 18 CFR 385.102(c)(1) (2005). For further information, please contact Joe Athey at (202) 502-8138 or e-mail joseph.athey@ferc.gov.

Magalie R. Salas,
Secretary.

[FR Doc. E6-5095 Filed 4-6-06; 8:45 am]

BILLING CODE 6717-01-P